DEPARTMENT OF HEALTH AND HUMAN SERVICES

Centers for Disease Control and Prevention

[Docket Number NIOSH-294]

World Trade Center Health Program; Request for Nominations of Scientific Peer Reviewers of Proposed Additions to the List of WTC-Related Health Conditions

AGENCY: National Institute for Occupational Safety and Health (NIOSH) of the Centers for Disease Control and Prevention (CDC), Department of Health and Human Services (HHS).

ACTION: Request for scientific peer reviewers.

SUMMARY: The CDC is soliciting nominations, including self-nominations, for scientific peer reviewers of proposed additions of conditions to the List of World Trade Center (WTC)-Related Health Conditions (List).

Title I of the James Zadroga 9/11 Health and Compensation Act of 2010, Public Law 111-347 (Jan. 2, 2011), amended by Public Law 114-113 (Dec. 18, 2015), added Title XXXIII to the Public Health Service Act (PHS Act), establishing the WTC Health Program within HHS (42 U.S.C. 300mm to 300mm-61). When the Administrator proposes to add a condition to the List, he must publish the proposed rule in accordance with the Administrative Procedure Act (5 U.S.C. 553). Additionally, as required by the James Zadroga 9/11 Health and Compensation Reauthorization Act in section 3312(a)(6)(F), prior to issuing a final rule to add a health condition to the List, the Administrator must provide for an independent peer review of the scientific and technical evidence that would be the basis for issuing such final rule.

Table of Contents:

• Dates:

• Addresses:

• For Further Information Contact:

• Supplementary Information:

DATES: Nominations must be submitted (postmarked or electronically received) by February 1, 2019.

ADDRESSES: You may submit a nomination identified by NIOSH Docket 294, by any of the following methods.

• Electronic nominations, including attachments to nioshdocket@cdc.gov.

• Regular, Express, or Overnight Mail: Written nominations may be submitted (one original and two copies) to the following address only: NIOSH Docket 294, c/o Kiana Harper, National Institute for Occupational Safety and Health, Centers for Disease Control and Prevention, Patriots Plaza 1, 95 E Street SW., Suite 9200, Washington, DC 20201. Telephone and facsimile submissions cannot be accepted.

FOR FURTHER INFORMATION CONTACT: Paul Middendorf, Ph.D., Deputy Associate Director for Science, 1600 Clifton Rd. NE., MS: E-20, Atlanta, GA 30329; telephone (404)498-2500 (this is not a toll-free number); email pmiddendorf@cdc.gov.

Instructions: Nominations of peer reviewers must be accompanied by:

• Name

• Occupation

• Employer

• Contact information including mailing address, email, and phone number

• Listing of scientific credentials including academic degrees and specialized training

• Area of competencies (e.g., medical, epidemiology, exposure assessment, industrial hygiene)

• Area of specialty (e.g., Cardiovascular, Integumentary, Gastrointestinal, Endocrine, Urinary, Immune, Lymphatic, Muscular, Nervous, Reproductive, Respiratory, Skeletal) Publication list

• Other materials to support the nominee's ability to perform scientific peer review

• For third-party nominations, affirmation from the nominee that they are aware of and agree to the nomination

A Curriculum vitae that includes all of the above information may alternatively be submitted.

SUPPLEMENTARY INFORMATION: The James Zadroga 9/11 Health and Compensation Reauthorization Act in section 3312(a)(6)(F) requires the Administrator to provide for an independent peer review of the scientific and technical evidence that would be the basis for issuing a final rule to add a health condition to the List prior to issuing the final rule. To assist in accomplishing independent peer review in a timely manner, the Administrator has determined that he will develop a standing pool of persons with the scientific, technical, and medical background to potentially serve in this role to provide their individual input to the Administrator based on the health condition in the proposed rule under consideration. The peer reviewers will not meet as a group, provide consensus advice or recommendations to the Administrator, or produce a collective work product(s). Therefore, the Administrator is requesting nominations of persons to serve as scientific peer reviewers.

All persons who have the necessary minimum qualifications will be included in the standing pool of potential peer reviewers. These persons will be included in the standing pool of potential peer reviewers for 3 years unless they request in writing to be removed. After 3 years persons may be nominated again and will be required to update their information.

The Administrator will select peer reviewers for any proposed rule by matching the nature of the proposed addition to the List and the nominee's background and expertise, as well as any potential conflict of interest. In selecting peer reviewers, the WTC Program Administrator will consider individuals nominated in response to this Federal Register notice, as well as other qualified individuals.

Dated: March 17, 2017.
John Howard,
Administrator, World Trade Center Health Program and Director, National Institute for Occupational Safety and Health, Centers for Disease Control and Prevention, Department of Health and Human Services.

[FR Doc. 2017-05623 Filed 3-21-17; 8:45 am]

BILLING CODE 4163-19-P